DEPARTMENT OF COMMERCE

National Oceanic and Atmospheric Administration

[RTID 0648-XE601]

Endangered and Threatened Species; Announcement of a Recovery Planning Workshop and Request for Information To Inform Recovery Planning for the Beringia Distinct Population Segment of Bearded Seal and the Arctic Ringed Seal

AGENCY: National Marine Fisheries Service (NMFS), National Oceanic and Atmospheric Administration (NOAA), Commerce.

ACTION: Notice of public meeting; request for information.

SUMMARY: NMFS announces its intent to convene a workshop to solicit facts and information from experts to inform recovery planning for the Beringia Distinct Population Segment (DPS) bearded Seal (Erignathus barbatus nauticus) and the Arctic ringed seal (Phoca hispida hispida). We will not be asking for any consensus recommendations on how to recover these species. This workshop will be open to the public. We also request submission of information that might inform the development of the recovery plans.

DATES:

Workshop dates and information: The 2-day recovery planning workshop for the Beringia DPS bearded seal and the Arctic ringed seal will be held Thursday, January 23 through Friday, January 24, 2025. The workshop will begin each day at 8:30 a.m. and end each day at 4:30 p.m. Alaska local time. This workshop will also be accessible virtually.

RSVP: If you plan to attend the workshop, virtually or in person, please contact NMFS Protected Resources Division, Alaska Region, at akr.ice.seal.recovery@noaa.gov by January 20, 2025 to receive the meeting link via email. The meeting link will also be posted on our website at https://www.fisheries.noaa.gov/species/ringed-seal/conservation-management and https://www.fisheries.noaa.gov/species/bearded-seal/conservation-management.

Date for information submission: Please submit information to inform recovery planning via the methods listed below in the ADDRESSES section by March 11, 2025.

ADDRESSES: Submit your information, identified by docket number NOAA-NMFS-2024-0151 by either of the following methods:

Electronic Submissions: Submit all electronic comments via the Federal eRulemaking Portal. Visit https://www.regulations.gov and type NOAA-NMFS-2024-0151 in the Search box. Click on the “Comment” icon, complete the required fields, and enter or attach your comments.

Mail: Submit written information to Anne Marie Eich, Assistant Regional Administrator for Protected Resources, Alaska Region NMFS, Attn: Records Office, P.O. Box 21668, Juneau, AK 99802-1668.

Instructions: NMFS may not consider comments or other information if sent by any other method, or to any other address or individual. All comments and information received are a part of the public record and NMFS will post the comments for public viewing on www.regulations.gov without change. All personal identifying information (e.g., name, address, etc.), confidential business information, or otherwise sensitive information submitted voluntarily by the sender is publicly accessible. NMFS will accept anonymous comments (enter “N/A” in the required fields if you wish to remain anonymous).

Workshop address: BP Energy Center, 1014 Energy Ct., Anchorage, AK 99508.

FOR FURTHER INFORMATION CONTACT: Jenna Malek, NMFS Alaska Region, jenna.malek@noaa.gov, (907) 271-1332, or Caroline Cummings, NMFS Alaska Region, caroline.cummings@noaa.gov, (907) 271-1508.

SUPPLEMENTARY INFORMATION: NMFS published a final rule listing the Beringia DPS of the Erignathus barbatus nauticus subspecies of bearded seal as threatened under the Endangered Species Act (ESA) on December 28, 2012 (77 FR 76739). NMFS published a final rule listing the Arctic subspecies of ringed seals (Pusa hispida hispida) as threatened under the ESA on December 28, 2012 (77 FR 76706). The final listing rules describe the background of the listing action for these species and provide a summary of our conclusions regarding their status. For additional background about these species, the reader is referred to our species web pages (available at https://www.fisheries.noaa.gov/species/bearded-seal and https://www.fisheries.noaa.gov/species/ringed-seal).

NMFS is required by section 4(f) of the ESA to develop and implement recovery plans for the conservation and survival of federally listed species unless the Secretary finds that such a plan will not promote the conservation of the species. Recovery means improvement in the status of listed species to the point at which the species no longer meets the definition of an endangered or threatened species and the protections of the ESA are no longer necessary. The ESA specifies that recovery plans are to include (1) a description of site-specific management actions necessary to achieve the plan's goals for the conservation and survival of the species; (2) objective, measurable criteria which, when met, would result in the species being removed from the list; and (3) estimates of the time and costs required to carry out the actions and achieve the plan's conservation goals. Under section 4(f) of the ESA, public notice and an opportunity for public review and comment are also provided during recovery plan development. This notice serves as the first public notice and opportunity for public input early in the process. Once a recovery plan has been drafted, it will be announced in the Federal Register and available on our website (see ADDRESSES section) for public review and comment before being finalized.

Recovery Planning Workshop Announcement

From January 23 through 24, 2025, NMFS will hold a workshop at the BP Energy Center in Anchorage, AK to help inform our recovery planning for the Beringia DPS bearded seal and the Arctic ringed seal (see DATES and ADDRESSES section). We are inviting experts in specific topic areas, including the species' biology/ecology, threats to the species and the species' habitat, and the recovery planning process itself. These experts will help us to identify potential actions to address the threats to the species, identify gaps in knowledge and associated research needs, as well as begin developing recovery criteria for the species. In particular, this workshop will focus on addressing threats stemming from changes in the climate. Identified experts include representatives of the Ice Seal Committee, Federal and State agencies, scientific researchers, individuals from conservation organizations and non-governmental organizations, and the oil and gas industry. Information received at the workshop may be used to inform the development of other conservation decisions and actions.

NMFS will provide two moderators to manage the workshop as well as a note taker to document input received. We are seeking facts and information; we will not be asking for consensus recommendations on how to recover the Beringia DPS bearded seal and the Arctic ringed seal. NMFS will prepare a summary of the workshop, noting the main points raised by the participants and registered speakers. This workshop will be open to the public, and an opportunity for public feedback and questions will be provided at the end of each day.

Agenda

January 23 will focus on the recovery planning process and requirements, the biology, status, and threats to the species, and discussions regarding potential recovery criteria;

January 24 will focus on development of recovery criteria and actions related to climate change, anthropogenic threats, and any other recovery needs.

Request for Information

We also invite the public to submit scientific or commercial information that may help to inform the recovery criteria and actions for the Beringia DPS bearded seal and the Arctic ringed seal. We are soliciting relevant information related to the species and their habitat, including but not limited to the following:

1. Criteria for removing these species from the list of threatened and endangered species (These criteria could be either threats-based or abundance/trends based.);

2. Human activities that contribute to threats to the species;

3. Physical, biological, or chemical features of the environment that limit the recovery of these species;

4. Recovery strategies addressing threats to physical and biological features that are essential to species conservation;

5. Strategies and actions to recover these species;

6. Estimates of the time and cost, and potential partners to implement recovery actions;

7. Critical knowledge gaps and uncertainties that need to be resolved to better inform recovery efforts; and

8. Research, monitoring, and evaluation needs to address knowledge gaps and uncertainties, or to assess the species' status, limiting factors, and threats relative to recovery goals.

Information may be submitted via the methods listed above in the ADDRESSES section.

Reasonable Accommodations

The workshop is accessible to persons with disabilities. Send requests for accessibility accommodations to akr.ice.seal.recovery@noaa.gov by January 13, 2025 and we will do our best to accommodate requests to the extent possible.

Authority: 16 U.S.C. 1531 et seq.

Dated: January 3, 2025.
Lisa Manning,
Acting Chief, Endangered Species Conservation Division, Office of Protected Resources, National Marine Fisheries Service.

[FR Doc. 2025-00320 Filed 1-8-25; 8:45 am]

BILLING CODE 3510-22-P